DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: April 20, 2023, 10:00 a.m.

PLACE: Room 2C, 888 First Street NE, Washington, DC 20426.

STATUS: Open to the public.

MATTERS TO BE CONSIDERED: Agenda.

* Note—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed on line at the Commission's website at https://elibrary.ferc.gov/eLibrary/search using the eLibrary link.

1100th—Meeting
[Open meeting; April 20, 2023; 10:00 a.m.]
Item No. | Docket No. | Company
ADMINISTRATIVE
A-1 | AD23-1-000 | Agency Administrative Matters.
A-2 | AD23-2-000 | Customer Matters, Reliability, Security and Market Operations.
A-3 | RD23-2-000 | North American Electric Reliability Corporation.
ELECTRIC
E-1 | RM22-19-000 | Incentives for Advanced Cybersecurity Investment.
E-2 | RM16-17-001, ER21-331-000, ER21-330-000 | Data Collection for Analytics and Surveillance and Market-Based Rate Purposes DDP Specialty Electronic Materials US, Inc. MC (US) 3, LLC.
E-3 | EL22-34-001 | Office of the Ohio Consumers' Counsel v. American Electric Power Service Corporation, American Transmission Systems, Inc., and Duke Energy Ohio, LLC.
E-4 | OMITTED
E-5 | ER21-2460-003 | New York Independent System Operator, Inc.
E-6 | ER22-2350-000 | New York Independent System Operator, Inc.
E-7 | ER22-2362-000 | California Independent System Operator Corporation.
E-8 | ER22-1546-000 | Tampa Electric Company.
E-9 | ER22-2303-000 | Black Hills Power, Inc.
E-10 | ER22-1863-001 | Arizona Public Service Company.
E-11 | ER22-2305-000 | Louisville Gas and Electric Company.
E-12 | ER22-1539-001 | NRG Power Marketing LLC.
E-13 | ER22-1980-001, ER22-1980-000 | Deuel Harvest Wind Energy LLC.
E-14 | ER20-681-008 | Tri-State Generation and Transmission Association, Inc.
E-15 | ER23-855-000 | Ohio Power Company, PJM Interconnection, L.L.C., American Electric Power Service Corporation, and AEP Ohio Transmission Company, Inc.
| EL22-34-000 | Office of Ohio Consumers' Counsel v. American Electric Power Service Corporation, American Transmission System, Inc., and Duke Energy Ohio, LLC.
E-16 | EL22-38-000 | PacifiCorp.
E-17 | EC23-28-000 | Michigan Electric Transmission Company, LLC and ITC Interconnection LLC.
E-18 | EL22-59-001 | Tenaska Clear Creek Wind, LLC v. Southwest Power Pool, Inc., Midcontinent Independent System Operator, Inc. Associated Electric Cooperative, Inc., and Tennessee Valley Authority.
HYDRO
H-1 | P-12766-008 | Green Mountain Power Corporation.
H-2 | P-15280-000 | Stonecat Hydro, LLC.
CERTIFICATES
C-1 | CP16-454-003, CP16-454-000 | Rio Grande LNG, LLC.
| CP16-455-000, CP16-455-002, CP20-481-000 | Rio Bravo Pipeline Company LLC.
C-2 | CP16-116-002 | Texas LNG Brownsville LLC.
C-3 | CP17-40-016 | Spire STL Pipeline LLC.
C-4 | CP21-465-000, CP21-465-001, CP21-465-002 | Driftwood Pipeline LLC.
C-5 | CP21-94-002, CP21-94-000, CP21-94-001 | Transcontinental Gas Pipe Line Company, LLC.
C-6 | CP21-467-001 | Texas Gas Transmission, LLC.

A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: April 13, 2023.
Kimberly D. Bose,
Secretary.

[FR Doc. 2023-08322 Filed 4-17-23; 11:15 am]

BILLING CODE 6717-01-P